DEPARTMENT OF COMMERCE

National Oceanic and Atmospheric Administration

RIN 0648-XA38

Taking and Importing Marine Mammals; Taking Marine Mammals Incidental to Coastal Commercial Fireworks Displays at Monterey Bay National Marine Sanctuary, CA

AGENCY: National Marine Fisheries Service (NMFS), National Oceanic and Atmospheric Administration (NOAA), Commerce.

ACTION: Notice; issuance of a letter of authorization.

SUMMARY: In accordance with the Marine Mammal Protection Act (MMPA) and implementing regulations, notification is hereby given that a 1-year letter of authorization (LOA) has been issued to the Monterey Bay National Marine Sanctuary (MBNMS or the Sanctuary) to incidentally take, by Level B Harassment only, California sea lions (Zalophus californianus) and Pacific harbor seals (Phoca vitulina) incidental to authorizing professional fireworks displays within the Sanctuary in California waters.

DATES: The LOA will be effective from July 4, 2007, through July 3, 2008.

ADDRESSES: The LOA and supporting documentation are available by writing to Michael Payne, Chief, Permits, Conservation, and Education Division, Office of Protected Resources, National Marine Fisheries Service, 1315 East-West Highway, Silver Spring, MD 20910-3225, by telephoning one of the contacts listed here (FOR FURTHER INFORMATION CONTACT), or online at: http://www.nmfs.noaa.gov/pr/permits/incidental.htm. Documents cited in this notice may be viewed, by appointment, during regular business hours, at the aforementioned address and at the Southwest Region, NMFS, 501 West Ocean Boulevard, Suite 4200, Long Beach, CA 90802.

FOR FURTHER INFORMATION CONTACT: Jolie Harrison, Office of Protected Resources, NMFS, (301) 713-2289, or Monica DeAngelis, Southwest Regional Office, NMFS, (562) 980-4023.

SUPPLEMENTARY INFORMATION:

Background

Section 101(a)(5)(A) of the MMPA (16 U.S.C. 1361 et seq.) directs NMFS to allow, on request, the incidental, but not intentional, taking of small numbers of marine mammals by U.S. citizens who engage in a specified activity (other than commercial fishing) within a specified geographical region if certain findings are made and regulations are issued. Under the MMPA, the term “taking” means to harass, hunt, capture, or kill or to attempt to harass, hunt, capture or kill marine mammals.

Authorization may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements for monitoring and reporting of such taking.

Regulations governing the taking of California sea lions and Pacific harbor seals, by Level B harassment, incidental to the authorization of fireworks displays within the Sanctuary became effective on July 4, 2006, and remain in effect until July 3, 2011. For detailed information on this action, please refer to the original Federal Register notice at 71 FR 40928 (July 19, 2006). These regulations include mitigation, monitoring, and reporting requirements for the incidental taking of marine mammals during the fireworks displays within the Sanctuary boundaries. This will be the second LOA issued pursuant to these regulations.

Summary of Request

On February 27, 2007, NMFS received a request for an LOA pursuant to the aforementioned regulations that would authorize, for a period not to exceed 1 year, take of marine mammals incidental to fireworks displays at the MBNMS. Justification for conducting fireworks displays within the MBNMS can be found in the proposed rule (71 FR 25544).

Summary of Activity and Monitoring Under the Current LOA

In compliance with the 2006 LOA, the MBNMS submitted an annual report on the fireworks displays at MBNMS. A summary of that report follows.

Four fireworks displays took place within the MBNMS in 2006. Observers conducted pre-event census to document abundance of marine mammals and protected species pre-event and post-event surveys to record any injured or dead wildlife species. Pre-event monitoring of the City of Monterey Bay Independence fireworks found 61 sea lions, nine harbor seals, and six sea otters (Enhydra lutris) in the vicinity of the event area. Post-monitoring revealed no dead or injured marine mammals and one dead cormorant; however, dead birds are commonly found on area beaches and this death could not be contributed directly to the fireworks display. Observers monitored the area around the location of Cambria Independence Day fireworks display and found no animals present at the site before the event and no dead or injured marine mammals or other animal species post-event. On July 30, 2006, Pacific Grove hosted The Feast of Lanterns Annual Fireworks display. On July 28, 2006, a pre-census count found seventeen harbor seals and three sea otters within the display area. A non-mandatory census was also conducted on July 29 with no marine mammals observed, possibly due to music, festivities, and increased human presence in the area. No dead or injured marine mammals were reported for this event. The Monte Foundation fireworks display was held on October 14, and a pre-event census was conducted on October 13. The census revealed four harbor seals and one sea otter in the area. No animals were reported dead or injured the day after the event.

In summary, the total number of potentially harassed sea lions (61) and harbor seals (13) for all fireworks displays, was well below the authorized limits as stated in the final rule (71 FR 40928). No dead or injured marine mammals were reported for all events. These monitoring results supports NMFS initial findings that fireworks display will result in no more than Level B harassment of small numbers of California sea lions and harbor seals and that effects will be limited to short term behavioral changes, including temporary abandonment of haulouts to avoid sights and sounds of commercial fireworks.

Authorization

Accordingly, NMFS has issued an LOA to MBNMS authorizing the Level B harassment of marine mammals incidental to the authorization of fireworks display within the Sanctuary. Issuance of this LOA is based on findings, described in the preamble to the final rule (71 FR 40928, July 19, 2006), that the activities described under this LOA will have a negligible impact on marine mammal stocks and will not have an unmitigable adverse impact on the availability of the affected marine mammal stock for subsistence uses. No mortality or injury of affected species is anticipated.

Dated: May 17, 2007.
James H. Lecky,
Director, Office of Protected Resources, National Marine Fisheries Service.

[FR Doc. E7-9964 Filed 5-23-07; 8:45 am]

BILLING CODE 3510-22-S